DEPARTMENT OF THE INTERIOR

Fish and Wildlife Service

Endangered and Threatened Species Permit Applications

AGENCY: Fish and Wildlife Service, Interior.

ACTION: Notice of receipt of applications.

SUMMARY: The following applicants have applied for a scientific research permit to conduct certain activities with endangered species pursuant to section 10(a)(1)(A) of the Endangered Species Act of 1973, as amended (16 U.S.C. 1531, et seq.).

DATES: Written comments on these permit applications must be received within 30 days of the date of publication.

ADDRESSES: Written data or comments should be submitted to the Chief, Endangered Species Division, Ecological Services, PO Box 1306, Room 4102, Albuquerque, New Mexico 87103; (505) 248-6649; Fax (505) 248-6788. Documents will be available for public inspection by written request, by appointment only, during normal business hours (8 to 4:30) at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, Ecological Services, PO Box 1306, Room 4102, Albuquerque, New Mexico 87103. Documents and other information submitted with these applications are available for review, subject to the requirements of the Privacy Act and Freedom of Information Act, by any party who submits a written request for a copy of such documents to the address above within 30 days of the date of publication of this notice.

SUPPLEMENTARY INFORMATION:

Permit No. TE-676811

Applicant: U.S. Fish & Wildlife Service, Region 2, Albuquerque, New Mexico.

Applicant requests an amendment to an existing permit to add the scaleshell mussel (Leptodea leptodon) within Oklahoma.

Permit No. TE-819541

Applicant: Ecosystem Management, Inc., Albuquerque, New Mexico.

Applicant requests an amendment to an existing permit to allow presence/absence surveys for northern aplomado falcon (Falco femoralis septentrionalis) with Arizona and New Mexico.

Permit No. TE-068175

Applicant: Jones & Stokes, Phoenix, Arizona.

Applicant requests a new permit for research and recovery purposes to conduct presence/absence surveys for cactus ferruginous pygmy owl (Glaucidium brasilianum cactorum) and Yuma clapper rail (Rallus longirostris yumanensis) within Arizona. Additionally, applicant requests authorization to conduct presence/absence surveys for southwestern willow flycatcher (Empidonax traillii extimus) within Arizona, New Mexico, and Texas.

Permit No. TE-068895

Applicant: Southwest Texas State University, San Marcos, Texas.

Applicant requests a new permit for research and recovery purposes to survey, collect, and captively propagate Comal Springs dryopid beetle (Stygoparnus comalensis) and Peck's Cave amphipod (Stygobromus pecki) within Texas.

Permit No. TE-068189

Applicant: Archaeological Consulting Service, Ltd., Tempe, Arizona.

Applicant requests a new permit for research and recovery purposes to conduct presence/absence surveys for cactus ferruginous pygmy owl (Glaucidium brasilianum cactorum), Yuma clapper rail (Rallus longirostris yumanensis), desert pupfish (Cyprinodon macularius), Gila topminnow (Poeciliopsis occidentalis), razorback sucker (Xyrauchen texanus), and Gila trout (Oncorhynchus gilae) within Arizona. Additionally, applicant requests authorization to conduct presence/absence surveys for southwestern willow flycatcher (Empidonax traillii extimus) and lesser long-nosed bat (Leptonycteris curasoae yerbabuenae) within Arizona and New Mexico.

Permit No. TE-035179

Applicant: Denis Humphrey, Show Low, Arizona.

Applicant requests an amendment to an existing permit to allow presence/absence surveys for southwestern willow flycatcher (Empidonax traillii extimus) within Arizona.

Permit No. TE-067869

Applicant: Rhea Environmental Consulting, Durango, Colorado.

Applicant requests a new permit for research and recovery purposes to conduct presence/absence surveys for southwestern willow flycatcher (Empidonax traillii extimus) within Arizona, New Mexico, Colorado, and Utah.

Permit No. TE-067868

Applicant: Coronado National Memorial, Hereford, Arizona.

Applicant requests a new permit for research and recovery purposes to conduct presence/absence surveys and habitat assessment for lesser long-nosed bat (Leptonycteris curasoae yerbabuenae) within Arizona.

Allan M. Strand,
Acting Assistant Regional Director, Ecological Services, Region 2, Albuquerque, New Mexico.

[FR Doc. 03-7741 Filed 3-31-03; 8:45 am]

BILLING CODE 4310-55-P